NUCLEAR REGULATORY COMMISSION

Application for a License To Export Heavy Water

Pursuant to 10 CFR 110.70 (b) “Public Notice of Receipt of an Application,” please take notice that the Nuclear Regulatory Commission (NRC) has received the following request for an export license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.rnc.gov/site-help/e-submittals.html. To ensure timely electronic filing, at least 5 (five) days prior to the filing deadline, the petitioner/requestor should contact the Office of the Secretary by e-mail at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications.

The information concerning this export license application follows.

NRC Export License Application
[Description of material]
Name of applicant, date of application, date received, application No., docket No. | Material type | Total quantity | End use | Recipient country
Concert Pharmaceuticals, Inc | Deuterium Oxide (D2O—heavy water) | ~ 20,000.0 kgs (liters) | Non-nuclear end-use for producing an active pharmaceutical ingredient known as CTP-499, which incorporates heavy water as the source of deuterium to achieve the hydrogen-deuterium exchange | China.
November 30, 2010 |  |  |
December 7, 2010 |  |  |
XMAT414 |  |  |
11005905 |  |  |

Dated this 16th day of August 2011 in Rockville, Maryland.
For the Nuclear Regulatory Commission.
Janice E. Owens,
Acting Deputy Director, Office of International Programs.

[FR Doc. 2011-21628 Filed 8-23-11; 8:45 am]

BILLING CODE 7590-01-P